DEPARTMENT OF COMMERCE

National Oceanic and Atmospheric Administration

50 CFR Part 648

[Docket No. 180209147-8509-02]

RIN 0648-XG696

Fisheries of the Northeastern United States; Small-Mesh Multispecies Fishery; Inseason Adjustment to the Northern Red Hake Possession Limit

AGENCY: National Marine Fisheries Service (NMFS), National Oceanic and Atmospheric Administration (NOAA), Commerce.

ACTION: Temporary rule; inseason adjustment.

SUMMARY: This action reduces that the commercial per-trip possession limit for northern red hake for the remainder of the 2018 fishing year. Regulations governing the small-mesh multispecies fishery require this action because the northern red hake fishery is projected to reach 37.9 percent of its total allowable landing limit for the year. This action is intended to prevent this limit from being exceeded. This announcement also informs the public of the reduced northern red hake possession limit.

DATES: Effective February 27, 2019, through April 30, 2019.

FOR FURTHER INFORMATION CONTACT: Cynthia Ferrio, Fishery Management Specialist, (978) 281-9180.

SUPPLEMENTARY INFORMATION: Regulations governing the red hake fishery are found at 50 CFR part 648. The small-mesh multispecies fishery is managed primarily through a series of exemptions from the Northeast Multispecies Fisheries Management Plan. The regulations describing the process to adjust inseason commercial possession limits of northern red hake are described in §§ 648.86(d)(4) and 648.90(b)(5). These regulations require the NMFS Regional Administrator, Greater Atlantic Region, to reduce the northern red hake possession limit from 3,000 lb (1,361 kg) to the incidental limit of 400 lb (181 kg) when landings have been projected to reach or exceed 37.9 percent of the total allowable landings (TAL), unless such a reduction would be expected to prevent the TAL from being reached. The final rule implementing the small-mesh multispecies specifications for 2018-2020 (83 FR 27713; June 14, 2018) set the northern red hake inseason adjustment threshold for the 2018 fishing year as 228,941 lb (103,846 kg); 37.9 percent of the northern red hake TAL for the year.

Based on commercial landings data reported through February 13, 2019, the northern red hake fishery is projected to reach 37.9 percent of the TAL on February 22, 2019. Using this projection, NMFS is required to reduce the commercial northern red hake possession limit to prevent the TAL from being exceeded. Therefore, effective February 27, 2019, no person may possess on board or land more than 400 lb (181 kg) of northern red hake per trip for the remainder of the fishing year (i.e., through April 30, 2019).

Classification

This action is required by 50 CFR part 648 and is exempt from review under Executive Order 12866.

The Assistant Administrator for Fisheries, NOAA, finds good cause under 5 U.S.C. 553(b)(B) to waive prior notice and the opportunity for public comment because it would be contrary to the public interest. This action reduces the per-trip possession limit for northern red hake to the incidental limit of 400 lb (181 kg) until April 30, 2019, under current small-mesh multispecies fishery regulations. The regulations at § 648.86(d) require such action to ensure that commercial small-mesh multispecies vessels do not exceed the TAL set for the northern red hake stock. If implementation of this reduction was delayed, the northern red hake TAL for this fishing year may be exceeded, thereby undermining the conservation objectives of the Northeast Multispecies Fishery Management Plan. Therefore, pursuant to 5 U.S.C. 553(d)(3), the Assistant Administrator further finds good cause to waive the 30-day delayed effectiveness period for the reason stated above.

Authority: 16 U.S.C. 1801 et seq.

Dated: February 22, 2019.
Alan D. Risenhoover,
Director, Office of Sustainable Fisheries, National Marine Fisheries Service.

[FR Doc. 2019-03457 Filed 2-27-19; 8:45 am]

BILLING CODE 3510-22-P